DEPARTMENT OF THE TREASURY

Internal Revenue Service

26 CFR Part 1

[TD 9960]

RIN 1545-BP79

Guidance Under Section 958 on Determining Stock Ownership; Correction

AGENCY: Internal Revenue Service (IRS), Treasury.

ACTION: Final regulations; correction.

SUMMARY: This document contains corrections to the final regulations (Treasury Decision 9960), published in the Federal Register on Tuesday, January 25, 2022. The final regulations regarding the treatment of domestic partnerships for purposes of determining amounts included in the gross income of their partners with respect to foreign corporations.

DATES: These corrections are effective on February 24, 2022, and applicable on or after January 25, 2022.

FOR FURTHER INFORMATION CONTACT: Edward J. Tracy at (202) 317-6934 (not a toll-free number).

SUPPLEMENTARY INFORMATION:

Background

The final regulations (TD 9960) subject to this correction are issued under section 951 of the Internal Revenue Code.

Need for Correction

As published, the final regulations (TD 9960), contain errors that need to be corrected.

Correction of Publication

Accordingly, the final regulation (TD 9960), that are the subject of FR Doc. 2022-00066, published on January 25, 2022 (87 FR 3648), are corrected to read as follows:

On page 3652, the third column, the thirty-second line through the forty-third line from the top of the first full paragraph is corrected to read “year ending December 31, 2023. Accordingly, for their taxable year ending December 31, 2023, the U.S. shareholder partners would have a distributive share of the partnership's section 951 inclusion for the CFC's taxable year ending December 31, 2022 (for the U.S. shareholder partnership's taxable year ending June 30, 2023) and would also have a direct section 951 inclusion for the CFC's taxable year ending December 31, 2023.”

Oluwafunmilayo A. Taylor,
Chief, Publications and Regulations Branch, Legal Processing Division, Associate Chief Counsel, (Procedure and Administration).

[FR Doc. 2022-03612 Filed 2-23-22; 8:45 am]

BILLING CODE 4830-01-P